DEPARTMENT OF HOMELAND SECURITY

Transportation Security Administration

Intent To Request Renewal From OMB of One Current Public Collection of Information: Airport Security

AGENCY: Transportation Security Administration, DHS.

ACTION: Notice.

SUMMARY: The Transportation Security Administration (TSA) invites public comment on one currently approved Information Collection Requirement (ICR), abstracted below, that we will submit to the Office of Management and Budget (OMB) for renewal in compliance with the Paperwork Reduction Act. The ICR describes the nature of the information collection and its expected burden. The collection involves implementing certain provisions of the Aviation Security Improvement Act of 1990 and the Aviation and Transportation Security Act that relate to the security of persons and property at airports operating in commercial air transportation.

DATES: Send your comments by August 5, 2008.

ADDRESSES: Comments may be mailed or delivered to Joanna Johnson, Communications Branch, Business Management Office, Operational Process and Technology, TSA-32, Transportation Security Administration, 601 South 12th Street, Arlington, VA 22202-4220.

FOR FURTHER INFORMATION CONTACT: Joanna Johnson at the above address, or by telephone (571) 227-3651 or facsimile (571) 227-3588.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0002; Airport Security, 49 CFR part 1542. The Federal Aviation Administration (FAA) initially required this collection under 14 CFR part 107 (now 49 CFR part 1542) and cleared under OMB control number 2120-0656. The responsibility for the collection was transferred to TSA from FAA on November 19, 2001 and subsequently assigned OMB control number 1652-0002. Part 1542, Airport Security, implements certain provisions of the Aviation Security Improvement Act of 1990 (Pub. L. 101-604, November 16, 1990) and the Aviation and Transportation Security Act (Pub. L. 107-71, November 19, 2001), as amended, that relates to the security of persons and property at airports operating in commercial air transportation. TSA is seeking renewal of this information collection because airport security programs are needed to provide for the safety and security of persons and property on an aircraft operating in commercial air transportation against acts of criminal violence, aircraft piracy, and the introduction of an unauthorized weapon, explosive, or incendiary onto an aircraft. The information being collected aids in the effectiveness of passenger screening procedures and assists TSA in complying with Congressional reporting requirements. The affected public is an estimated 454 regulated airport operators. The current estimated annual burden is 535,705 hours annually.

Issued in Arlington, Virginia, on June 3, 2008.
Fran Lozito,
Director, Business Management Office, Operational Process and Technology.

[FR Doc. E8-12746 Filed 6-5-08; 8:45 am]

BILLING CODE 9110-05-P